FEDERAL TRADE COMMISSION

Statement of Policy Regarding Communications in Connection With Collection of a Decedent's Debt

AGENCY: Federal Trade Commission (FTC or Commission).

ACTION: Extension of the public comment period.

SUMMARY: The FTC has determined to extend until December 1, 2010, the time period for filing public comments in response to its proposed Statement of Policy Regarding Communications in Connection with Collection of a Decedent's Debt.

DATES: Written comments must be received on or before December 1, 2010.

ADDRESSES: Interested parties are invited to submit written comments electronically or in paper form by following the instructions in the SUPPLEMENTARY INFORMATION section below. Comments in electronic form should be submitted by using the following weblink: https://ftcpublic.commentworks.com/ftc/deceaseddebtcollection (and following the instructions on the web-based form). Comments in paper form should be mailed or delivered to the following address: Federal Trade Commission, Office of the Secretary, Room H-113 (Annex W), 600 Pennsylvania Avenue, NW., Washington, DC 20580, (202) 326-2252.

FOR FURTHER INFORMATION CONTACT: Christopher Koegel or Quisaira Whitney, Attorneys, Division of Financial Practices, Federal Trade Commission, 600 Pennsylvania Avenue, NW., Washington, DC 20580, (202) 326-3224.

SUPPLEMENTARY INFORMATION: On October 8, 2010, the Commission published (75 FR 62389) a notice of proposed statement of enforcement policy regarding communications in connection with collection of a decedent's debts (“proposed Statement”) seeking comment on the overall costs, benefits, necessity, and regulatory and economic impact of the proposed Statement. Currently, the proposed Statement addresses three issues pertaining to debt collectors who attempt to collect on the debts of deceased debtors. First, the proposed Statement announces that the FTC will not bring enforcement actions for violations of Section 805(b) of the Fair Debt Collection Practices Act (“FDCPA”), 15 U.S.C. 1692c(b), against collectors who, in connection with the collection of a decedent's debt, communicate with a person who has authority to pay the decedent's debts from the assets of the decedent's estate. Second, the proposed Statement clarifies how a debt collector may locate the appropriate person with whom to discuss the decedent's debt. Third, the proposed Statement emphasizes to collectors that misleading consumers about their personal obligation to pay a decedent's debt is a violation of the FDCPA and Section 5 of the Federal Trade Commission Act (“FTC Act”), 15 U.S.C. 45. The notice designated November 8, 2010, as the deadline for filing public comments.

Public comment on the Commission's proposed Statement is critical to developing policies that are fair and beneficial to consumers, creditors, and legitimate debt collectors. The Commission has been notified that several parties are interested in filing public comments on the proposed Statement, but would need additional time to comment. Because the proposed Statement implicates complicated issues involving not only FDCPA law, but also state probate law, the Commission is extending the deadline for public comment.

The short extension of the comment period will not substantially delay Commission action. The Commission is mindful of the need to deal with this matter expeditiously; however, it also recognizes that the proposed Statement involves complex issues and believes that extending the comment period to facilitate the creation of a more complete evaluation outweighs any harm that might result from any delay. Accordingly, the Commission has decided to extend the comment period until December 1, 2010, to allow for additional comment. Comments should refer to “Deceased Debt Collection Policy Statement” to facilitate the organization of comments. Please note that your comment—including your name and your state—will be placed on the public record of this proceeding, including on the publicly accessible FTC Web site, at http://www.ftc.gov/os/publiccomments.shtm.

Because comments will be made public, they should not include any sensitive personal information, such as an individual's Social Security Number; date of birth; driver's license number or other state identification number, or foreign country equivalent; passport number; financial account number; or credit or debit card number. Comments also should not include any sensitive health information, such as medical records or other individually identifiable health information. In addition, comments should not include any “[t]rade secret or any commercial or financial information which is obtained from any person and which is privileged or confidential,” as provided in Section 6(f) of the FTC Act, 15 U.S.C. 46(f), and Commission Rule 4.10(a)(2), 16 CFR 4.10(a)(2). Comments containing material for which confidential treatment is requested must be filed in paper form and clearly labeled “Confidential.” ¹

¹ The comment must also be accompanied by an explicit request for confidential treatment, including the factual and legal basis for the request, and must identify the specific portions of the comment to be withheld from the public record. The request will be granted or denied by the Commission's General Counsel, consistent with applicable law and the public interest. See Commission Rule 4.9(c), 16 CFR 4.9(c).

Because paper mail addressed to the FTC is subject to delay due to heightened security screening, please consider submitting your comments in electronic form. Comments filed in electronic form should be submitted by using the following weblink: https://ftcpublic.commentworks.com/ftc/deceaseddebtcollection (and following the instructions on the web-based form). To ensure that the Commission considers an electronic comment, you must file it on the web-based form at the weblink https://ftcpublic.commentworks.com/ftc/deceaseddebtcollection. If this Notice appears at http://www.regulations.gov/search/index.jsp, you may also file an electronic comment through that Web site. The Commission will consider all comments that regulations.gov forwards to it. You may also visit the FTC Web site at http://www.ftc.gov to read the Notice and the news release describing it.

A comment filed in paper form should include the “Deceased Debt Collection Policy Statement” reference both in the text and on the envelope, and should be mailed or delivered to the following address: Federal Trade Commission/Office of the Secretary, Room H-113 (Annex W), 600 Pennsylvania Avenue, NW., Washington, DC 20580. The FTC is requesting that any comment filed in paper form be sent by courier or overnight service, if possible, because U.S. postal mail in the Washington area and at the Commission is subject to delay due to heightened security precautions.

The Federal Trade Commission Act (“FTC Act”) and other laws the Commission administers permit the collection of public comments to consider and use in this proceeding as appropriate. The Commission will consider all timely and responsive public comments that it receives, whether filed in paper or electronic form. Comments received will be available to the public on the FTC Web site, to the extent practicable, at http://www.ftc.gov/os/publiccomments.shtm. As a matter of discretion, the Commission makes every effort to remove home contact information for individuals from the public comments it receives before placing those comments on the FTC Web site. More information, including routine uses permitted by the Privacy Act, may be found in the FTC's privacy policy, at http://www.ftc.gov/ftc/privacy.shtm.

By direction of the Commission.
Donald S. Clark,
Secretary.

[FR Doc. 2010-28882 Filed 11-16-10; 8:45 am]

BILLING CODE P